DEPARTMENT OF TRANSPORTATION

Federal Aviation Administration

14 CFR Part 39

[Docket No. FAA-2022-0591; Project Identifier MCAI-2021-01302-T; Amendment 39-22165; AD 2022-18-14]

RIN 2120-AA64

Airworthiness Directives; Airbus SAS Airplanes

AGENCY: Federal Aviation Administration (FAA), DOT.

ACTION: Final rule.

SUMMARY: The FAA is superseding Airworthiness Directive (AD) 2017-19-13, AD 2018-24-04, and AD 2019-23-02, which applied to certain Airbus SAS Model A330-200 series, A330-200 Freighter series, and A330-300 series airplanes. ADs 2017-19-13, 2018-24-04, and 2019-23-02 required revising the existing maintenance or inspection program, as applicable, to incorporate new or more restrictive airworthiness limitations. This AD was prompted by the FAA's determination that new or more restrictive airworthiness limitations are necessary. This AD continues to require the actions in AD 2019-23-02, adds airplanes to the applicability, and requires revising the existing maintenance or inspection program, as applicable, to incorporate additional new or more restrictive airworthiness limitations, as specified in a European Union Aviation Safety Agency (EASA) AD, which is incorporated by reference. The FAA is issuing this AD to address the unsafe condition on these products.

DATES: This AD is effective October 20, 2022.

The Director of the Federal Register approved the incorporation by reference of certain publications listed in this AD as of October 20, 2022.

The Director of the Federal Register approved the incorporation by reference of a certain other publication listed in this AD as of December 30, 2019 (84 FR 64725, November 25, 2019).

ADDRESSES: For material incorporated by reference (IBR) in this AD, contact EASA, Konrad-Adenauer-Ufer 3, 50668 Cologne, Germany; telephone +49 221 8999 000; email ADs@easa.europa.eu; internet easa.europa.eu. You may find this IBR material on the EASA website at ad.easa.europa.eu. You may view this material at the FAA, Airworthiness Products Section, Operational Safety Branch, 2200 South 216th St., Des Moines, WA. For information on the availability of this material at the FAA, call 206-231-3195. It is also available in the AD docket at regulations.gov under Docket No. FAA-2022-0591.

Examining the AD Docket

You may examine the AD docket at regulations.gov by searching for and locating Docket No. FAA-2022-0591; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, FAA, International Validation Branch, 2200 South 216th St., Des Moines, WA 98198; telephone 206 231 3229; email vladimir.ulyanov@faa.gov.

SUPPLEMENTARY INFORMATION:

Background

EASA, which is the Technical Agent for the Member States of the European Union, has issued EASA AD 2021-0261, dated November 22, 2021 (EASA AD 2021-0261) (also referred to as the MCAI), to correct an unsafe condition for all Airbus SAS Model A330-201, -202, -203, -223, -243, -223F, -243F, -301, -302, -303, -321, -322, -323, -341, -342, -343, -841, and -941 airplanes.

Airplanes with an original airworthiness certificate or original export certificate of airworthiness issued after November 2, 2021, must comply with the airworthiness limitations specified as part of the approved type design and referenced on the type certificate data sheet; this AD therefore does not include those airplanes in the applicability.

The FAA issued a notice of proposed rulemaking (NPRM) to amend 14 CFR part 39 to supersede AD 2017-19-13, Amendment 39-19043 (82 FR 43837, September 20, 2017) (AD 2017-19-13); AD 2018-24-04, Amendment 39-19508 (83 FR 60756, November 27, 2018) (AD 2018-24-04); and AD 2019-23-02, Amendment 39-19795 (84 FR 64725, November 25, 2019) (AD 2019-23-02), which applied to certain Airbus SAS Model A330-200 series, A330-200 Freighter series, and A330-300 series airplanes. The NPRM published in the Federal Register on May 31, 2022 (87 FR 32368). The NPRM was prompted by a determination that new or more restrictive airworthiness limitations are necessary. The NPRM proposed to continue requiring the actions in AD 2019-23-02, add airplanes to the applicability, and require revising the existing maintenance or inspection program, as applicable, to incorporate additional new or more restrictive airworthiness limitations, as specified in EASA AD 2021-0261.

The FAA is issuing this AD to address fatigue cracking, accidental damage, and corrosion in principal structural elements; such fatigue cracking, accidental damage, and corrosion could result in reduced structural integrity of the airplane. See the MCAI for additional background information.

Discussion of Final Airworthiness Directive

Comments

The FAA received comments from the Air Line Pilots Association, which supported the NPRM without change.

Conclusion

The FAA reviewed the relevant data, considered the comments received, and determined that air safety requires adopting this AD as proposed. Except for minor editorial changes, this AD is adopted as proposed in the NPRM. None of the changes will increase the economic burden on any operator. Accordingly, the FAA is issuing this AD to address the unsafe condition on these products.

Related Service Information Under 1 CFR Part 51

EASA AD 2021-0261 describes new or more restrictive airworthiness limitations for airplane structures, including a limit of validity (LOV) for Model A330-841 and A330-941 airplanes.

This AD also requires Airbus A330 Airworthiness Limitations Section (ALS) Part 2, Damage Tolerant Airworthiness Limitation Items (DT-ALI), Revision 03, dated October 15, 2018; and Airbus A330 Airworthiness Limitations Section (ALS) Part 2, Damage Tolerant Airworthiness Limitation Items (DT-ALI), Variation 3.1, dated January 18, 2019, which the Director of the Federal Register approved for incorporation by reference as of December 30, 2019 (84 FR 64725, November 25, 2019).

This material is reasonably available because the interested parties have access to it through their normal course of business or by the means identified in the ADDRESSES section.

Costs of Compliance

The FAA estimates that this AD affects 138 airplanes of U.S. registry. The FAA estimates the following costs to comply with this AD:

The FAA estimates the total cost per operator for the retained actions from AD 2019-23-02 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new AD actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-19-13, Amendment 39-19043 (82 FR 43837, September 20, 2017); AD 2018-24-04, Amendment 39-19508 (83 FR 60756, November 27, 2018); and AD 2019-23-02, Amendment 39-19795 (84 FR 64725, November 25, 2019); and

b. Adding the following new AD:

2022-18-14 Airbus SAS: Amendment 39-22165; Docket No. FAA-2022-0591; Project Identifier MCAI-2021-01302-T.

(a) Effective Date

This airworthiness directive (AD) is effective October 20, 2022.

(b) Affected ADs

This AD replaces the ADs specified in paragraphs (b)(1) through (3) of this AD.

(1) AD 2017-19-13, Amendment 39-19043 (82 FR 43837, September 20, 2017) (AD 2017-19-13).

(2) AD 2018-24-04, Amendment 39-19508 (83 FR 60756, November 27, 2018) (AD 2018-24-04).

(3) AD 2019-23-02, Amendment 39-19795 (84 FR 64725, November 25, 2019) (AD 2019-23-02).

(c) Applicability

This AD applies to the Airbus SAS airplanes specified in paragraphs (c)(1) through (5) of this AD, certificated in any category, with an original airworthiness certificate or original export certificate of airworthiness issued on or before November 2, 2021.

(1) Model A330-201, -202, -203, -223, and -243 airplanes.

(2) Model A330-223F and -243F airplanes.

(3) Model A330-301, -302, -303, -321, -322, -323, -341, -342, and -343 airplanes.

(4) Model A330-841 airplanes.

(5) Model A330-941 airplanes.

(d) Subject

Air Transport Association (ATA) of America Code 05, Time Limits/Maintenance Checks.

(e) Unsafe Condition

This AD was prompted by a determination that new or more restrictive airworthiness limitations are necessary. The FAA is issuing this AD to address fatigue cracking, accidental damage, and corrosion in principal structural elements; such fatigue cracking, accidental damage, and corrosion could result in reduced structural integrity of the airplane.

(f) Compliance

Comply with this AD within the compliance times specified, unless already done.

(g) Retained Revision of the Existing Maintenance or Inspection Program, With No Changes

This paragraph restates the requirements of paragraph (g) of AD 2019-23-02, with no changes. For Model A330-201, -202, -203, -223, and -243; A330-223F and -243F; and A330-301, -302, -303, -321, -322, -323, -341, -342, and -343 airplanes with an original airworthiness certificate or original export certificate of airworthiness issued on or before January 18, 2019: Within 90 days after December 30, 2019 (the effective date AD 2019-23-02), revise the existing maintenance or inspection program, as applicable, to incorporate the information specified in Airbus A330 Airworthiness Limitations Section (ALS) Part 2, Damage Tolerant Airworthiness Limitation Items (DT-ALI), Revision 03, dated October 15, 2018 (Airbus A330 ALS Part 2, DT-ALI, Revision 03), as supplemented by Airbus A330 ALS Part 2, DT-ALI, Variation 3.1, dated January 18, 2019. The initial compliance time for doing the tasks is at the time specified in Airbus A330 ALS Part 2, DT-ALI, Revision 03, including Airbus A330 ALS Part 2, DT-ALI, Variation 3.1, dated January 18, 2019; or within 90 days after December 30, 2019; whichever occurs later. This AD does not require Section 4, “Damage Tolerant-Airworthiness Limitations Items-Tasks Beyond MPPT,” of Airbus A330 ALS Part 2, DT-ALI, Revision 03. Accomplishing the revision of the existing maintenance or inspection program required by paragraph (i) of this AD terminates the requirements of this paragraph.

(h) Retained Restrictions on Alternative Actions or Intervals, With a New Exception

This paragraph restates the requirements of paragraph (h) of AD 2019-23-02, with a new exception. Except as required by paragraph (i) of this AD, after the existing maintenance or inspection program has been revised as required by paragraph (g) of this AD, no alternative actions (e.g., inspections) or intervals, may be used unless the actions and intervals are approved as an alternative method of compliance (AMOC) in accordance with the procedures specified in paragraph (l)(1) of this AD.

(i) New Revision of the Existing Maintenance or Inspection Program

Except as specified in paragraph (j) of this AD: Comply with all required actions and compliance times specified in, and in accordance with, European Union Aviation Safety Agency (EASA) AD 2021-0261, dated November 22, 2021 (EASA AD 2021-0261). Accomplishing the revision of the existing maintenance or inspection program required by this paragraph terminates the requirements of paragraph (g) of this AD.

(j) Exceptions to EASA AD 2021-0261

(1) Where EASA AD 2021-0261 refers to its effective date, this AD requires using the effective date of this AD.

(2) The requirements specified in paragraphs (1) and (2) of EASA AD 2021-0261 do not apply to this AD.

(3) Paragraph (3) of EASA AD 2021-0261 specifies revising “the AMP” within 12 months after its effective date, but this AD requires revising the existing maintenance or inspection program, as applicable, within 90 days after the effective date of this AD.

(4) The initial compliance time for doing the tasks specified in paragraph (3) of EASA 2021-0261 is at the applicable “associated thresholds” as incorporated by the requirements of paragraph (3) of EASA AD 2021-0261, or within 90 days after the effective date of this AD, whichever occurs later.

(5) This AD does not require incorporating Section 4, “Damage Tolerant-Airworthiness Limitations Items-Tasks Beyond MPPT,” of “the ALS” specified in EASA AD 2021-0261.

(6) The provisions specified in paragraphs (4) and (5) of EASA AD 2021-0261 do not apply to this AD.

(7) The “Remarks” section of EASA AD 2021-0261 does not apply to this AD.

(k) New Provisions for Alternative Actions and Intervals

After the existing maintenance or inspection program has been revised as required by paragraph (i) of this AD, no alternative actions (e.g., inspections) and intervals are allowed unless they are approved as specified in the provisions of the “Ref. Publications” section of EASA AD 2021-0261.

(l) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (m) of this AD. Information may be emailed to: 9-AVS-AIR-730-AMOC@faa.gov.

(i) Before using any approved AMOC, notify your appropriate principal inspector, or lacking a principal inspector, the manager of the responsible Flight Standards Office.

(ii) The AMOC specified in letter AIR-676-19-120, dated March 5, 2019, approved previously for AD 2018-24-04, is approved as an AMOC for the corresponding provisions of EASA AD 2021-0261 that are required by paragraph (i) of this AD for Model A330-200 and A330-300 series airplanes modified from a passenger to freighter configuration under the provisions of FAA Supplemental Type Certificate ST04038NY.

(iii) The AMOC specified in letter AIR-731A-20-179, dated May 11, 2020, approved previously for AD 2019-23-02 is approved as an AMOC for the corresponding provisions of EASA AD 2021-0261 that are required by paragraph (i) of this AD for Model A330-200 and A330-300 series airplanes modified from a passenger to freighter configuration under the provisions of FAA Supplemental Type Certificate ST04038NY.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(m) Related Information

For more information about this AD, contact Vladimir Ulyanov, Aerospace Engineer, Large Aircraft Section, FAA, International Validation Branch, 2200 South 216th St., Des Moines, WA 98198; telephone 206 231 3229; email vladimir.ulyanov@faa.gov.

(n) Material Incorporated by Reference

(1) The Director of the Federal Register approved the incorporation by reference of the service information listed in this paragraph under 5 U.S.C. 552(a) and 1 CFR part 51.

(2) You must use this service information as applicable to do the actions required by this AD, unless this AD specifies otherwise.

(3) The following service information was approved for IBR on October 20, 2022.

(i) European Union Aviation Safety Agency (EASA) AD 2021-0261, dated November 22, 2021.

(ii) [Reserved]

(4) The following service information was approved for IBR on December 30, 2019 (84 FR 64725, November 25, 2019).

(i) Airbus A330 Airworthiness Limitations Section (ALS) Part 2, Damage Tolerant Airworthiness Limitation Items (DT-ALI), Revision 03, dated October 15, 2018.

(ii) Airbus A330 Airworthiness Limitations Section (ALS) Part 2, Damage Tolerant Airworthiness Limitation Items (DT-ALI), Variation 3.1, dated January 18, 2019.

(5) For EASA AD 2021-0261, contact EASA, Konrad-Adenauer-Ufer 3, 50668 Cologne, Germany; telephone +49 221 8999 000; email ADs@easa.europa.eu; internet easa.europa.eu. You may find this EASA AD on the EASA website at ad.easa.europa.eu.

(6) For Airbus service information identified in this AD, contact Airbus SAS, Airworthiness Office—EAL, Rond-Point Emile Dewoitine No: 2, 31700 Blagnac Cedex, France; telephone +33 5 61 93 36 96; fax +33 5 61 93 45 80; email airworthiness.A330-A340@airbus.com; internet airbus.com.

(7) You may view this material at the FAA, Airworthiness Products Section, Operational Safety Branch, 2200 South 216th St., Des Moines, WA. For information on the availability of this material at the FAA, call 206-231-3195.

(8) You may view this material that is incorporated by reference at the National Archives and Records Administration (NARA). For information on the availability of this material at NARA, email fr.inspection@nara.gov, or go to: archives.gov/federal-register/cfr/ibr-locations.html.

Issued on August 25, 2022.
Christina Underwood,
Acting Director, Compliance & Airworthiness Division, Aircraft Certification Service.

[FR Doc. 2022-19809 Filed 9-14-22; 8:45 am]

BILLING CODE 4910-13-P